INTERNATIONAL TRADE COMMISSION

[Investigation No. 337-TA-959]

Certain Electric Skin Care Devices, Brushes and Chargers Therefor, and Kits Containing the Same: Notice of Institution of Investigation; Institution of Investigation Pursuant to 19 U.S.C. 1337

AGENCY: U.S. International Trade Commission.

ACTION: Notice.

SUMMARY: Notice is hereby given that a complaint was filed with the U.S. International Trade Commission on April 30, 2015, under section 337 of the Tariff Act of 1930, as amended, 19 U.S.C. 1337, on behalf of Pacific Bioscience Laboratories, Inc. of Redmond, Washington. A supplement to the complaint was filed on May 18, 2015. An amended complaint was filed on May 20, 2015. A supplement to the amended complaint was filed on May 21, 2015. The amended complaint, as supplemented, alleges violations of section 337 based upon the importation into the United States, the sale for importation, and the sale within the United States after importation of certain electric skin care devices, brushes and chargers therefor, and kits containing same by reason of infringement of certain claims of U.S. Patent No. 7,320,691 (“the '691 patent”); U.S. Patent No. 7,386,906 (“the '906 patent”); and U.S. Design Patent No. D523,809 (“the '809 patent”), and that an industry in the United States exists as required by subsection (a)(2) of section 337. The amended complaint, as supplemented, further alleges violations of section 337 based upon the importation into the United States, or in the sale of certain electric skin care devices, brushes and chargers therefor, and kits containing the same, by reason of trade dress infringement, the threat or effect of which is to destroy or substantially injure an industry in the United States.

The complainant requests that the Commission institute an investigation and, after the investigation, issue a general exclusion order and cease and desist orders.

ADDRESSES: The amended complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

AUTHORITY: The authority for institution of this investigation is contained in section 337 of the Tariff Act of 1930, as amended, and in section 210.10 of the Commission's Rules of Practice and Procedure, 19 CFR 210.10 (2015).

Scope of Investigation: Having considered the amended complaint, the U.S. International Trade Commission, on June 18, 2015, ordered that—

(1) Pursuant to subsection (b) of section 337 of the Tariff Act of 1930, as amended, an investigation be instituted to determine:

(a) Whether there is a violation of subsection (a)(1)(B) of section 337 in the importation into the United States, the sale for importation, or the sale within the United States after importation of certain electric skin care devices, brushes and chargers therefor, and kits containing same by reason of infringement of one or more of claims 1, 4-6, 12-16, 22, 31, 33, 39-42, 44-46, 49, 51, and 52 of the '691 patent; claims 1, 2, 4, 5, and 7-15 of the '906; the claim of the '809 patent, and whether an industry in the United States exists as required by subsection (a)(2) of section 337;

(b) whether there is a violation of subsection (a)(1)(A) of section 337 in the importation into the United States, or in the sale of certain electric skin care devices, brushes and chargers therefor, and kits containing same by reason of trade dress infringement, the threat or effect of which is to destroy or substantially injure an industry in the United States;

(2) For the purpose of the investigation so instituted, the following are hereby named as parties upon which this notice of investigation shall be served:

(a) The complainant is: Pacific Bioscience Laboratories, Inc., 17275 NE 67th Court, Redmond, WA 98052.

(b) The respondents are the following entities alleged to be in violation of section 337, and are the parties upon which the amended complaint is to be served:

Our Family Jewels, Inc., d/b/a Epipür Skincare, 10226 S. Dransfeldt Road, Parker, CO 80134.

Accord Media, LLC, d/b/a Truth in Aging, 241 West 36th Street, Apt. 16, New York, NY 10018.

Xnovi Electronic Co., Ltd., Room 915, GuanLiDa Mansion, QianJin 1st Road, Zone 30 Bao'An, Shenzhen, China.

Michael Todd True Organics LP, 648 SW Port St. Lucie Blvd., Port St. Lucie, FL 34953-1947.

MTTO LLC, 648 SW Port St. Lucie Blvd., Port St. Lucie, FL 34953-1947.

Shanghai Anzikang Electronic Co., Ltd., 168 Ji Xin Road, Building 3, Room 401, Minhang District, Shanghai, China.

Nutra-Luxe M.D., LLC, 6835 International Center Blvd. Unit 5, Fort Myers, FL 33912.

Beauty Tech, Inc., 1430 S. Dixie Hwy., Ste. 321, Coral Gables, FL 33146-3175.

Anex Corporation, C-304 Seoul Hightech Venture Center, 647-26, Deungchon-dong, Gangseo-ku, Seoul, 157-030, Republic of Korea.

RN Ventures Ltd., Francis House, 10 Francis Street, London SW1P 1DE, United Kingdom.

Korean Beauty Co., Ltd., 10 F, Pluszone Bldg 700, Deungchon-Dong, Gangseo-Gu, Seoul, Republic of Korea.

H2Pro BeautyLife, Inc., 1043 Segovia Cir., Placentia, CA 92870-7137.

Serious Skin Care, Inc., 112 N. Curry St., Carson City, NV 89703-4934.

Home Skinovations Inc., 100 Leek Crescent Unit 15, Richmond Hill, ON L4B 3E6, Canada.

Home Skinovations Ltd., Tavor Building, Shaar Yokneam, Yokneam, 20692, Israel.

Wenzhou Ai Er Electrical, Technology Co., Ltd d/b/a CNAIER, 1#, XiaSong Road, WanQuan Town, PingYang, ZheJiang, China.

Coreana Comestics Co., Ltd., 204-1 Jeongchon-ri, Seonggeo-eup, Seobuk-gu, Cheonan-si, Chungcheongnam-do, Republic of Korea.

Flageoli Classic Limited, 7310 Smoke Ranch Road, Las Vegas, NV 89128.

Jewlzie, 353 W 48th Street, #433, New York, NY 10001.

Unicos USA, Inc., 610 South Palm Street, #E, LaHabra, CA 90630.

Skincarebyalana, 34179 Golden Lantern Street, #101, Dana Point, CA 92629.

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: June 19, 2015.
Lisa R. Barton,
Secretary to the Commission.

[FR Doc. 2015-15575 Filed 6-24-15; 8:45 am]

BILLING CODE 7020-02-P